DEPARTMENT OF COMMERCE

National Oceanic and Atmospheric Administration

50 CFR Part 648

[I.D. 041000G]

New England Fishery Management Council; Public Meeting

AGENCY: National Marine Fisheries Service (NMFS), National Oceanic and Atmospheric Administration (NOAA), Commerce.

ACTION: Announcement of Public Meeting.

SUMMARY: The New England Fishery Management Council (Council) will hold a 2-day public meeting on May 3 and 4, 2000, to consider actions affecting New England fisheries in the exclusive economic zone (EEZ).

DATES: The meeting will be held on Wednesday, May 3, 2000, beginning at 9:30 a.m., and Thursday, May 4, at 8:30 a.m.

ADDRESSES: The meeting will be held at the Providence Biltmore Hotel, 11 Dorrance Street, Kennedy Plaza, Providence, RI 02903; telephone (401) 421-0700. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Wednesday, May 3, 2000

After introductions, the meeting will begin with reports on recent activities from the Council Chairman, Executive Director, the Administrator, Northeast Region, NMFS (Regional Administrator), Northeast Fisheries Science Center and Mid-Atlantic Fishery Management Council liaisons, and representatives of the Coast Guard, NMFS Enforcement and the Atlantic States Marine Fisheries Commission. Following reports, the Council's Research Steering Committee Chairman will provide a briefing on progress to fund collaborative research projects submitted by fishermen and researchers in response to a Congressional appropriation for groundfish research in New England. The Council will approve procedures to determine final decisions on proposals submitted for funding. During the Groundfish Committee report the Council will discuss and possibly approve committee recommendations developed for Amendment 13 to the Northeast Multispecies Fishery Management Plan (FMP). These include committee recommendations on overfishing definitions for species managed through the FMP and for biological goals and rebuilding schedules. The day will conclude with a report from the Whiting Committee. The Council will consider final approval of Framework Adjustment 35 to the Northeast Multispecies FMP (whiting raised footrope trawl exempted fishery). The action would allow a seasonal whiting raised footrope trawl fishery to occur in Upper Cape Cod Bay. Issues to be addressed include: Season, area and gear requirements; possible modification of the current raised footrope trawl gear specifications for Small Mesh Areas 1 and 2; possible adjustment to the October/November closure of Blocks 124 and 125 or an exemption for participants in the raised footrope trawl fishery; whiting possession limits and bycatch restrictions; possible modification to the bycatch restrictions for Small Mesh Areas 1 and 2; monitoring recommendations; and possible requirement for vessels to use multispecies days-at-sea when participating in the raised footrope trawl fishery.

Thursday, May 4, 2000

The second day of the meeting will begin with a Herring Committee Report. This will include discussion and possible approval of an in-season adjustment to area specific Total Allowable Catches and consideration of measures to provide access to the herring resource for the fixed gear fishery. There also will be a report on the development of a controlled access or limited entry system in the Atlantic herring fishery in light of the Mid-Atlantic Fishery Management Council's limited entry proposals for the Atlantic mackerel fishery. During the Monkfish Committee discussion which will follow, the Council will provide guidance on issues raised at the most recent committee meeting. These include: Revision of the limited access permit qualification period to allow vessels to fish south of the North Carolina/Virginia border; delay in implementation of the Southern Fishery Management Area trip limit, pending review of data for the fishery following the November 8, 1999, implementation of year 1 measures; establishment of procedures and options for addressing monkfish bycatch in fisheries managed under other fishery management plans; and discussion of methods to address a proposal for an inshore/offshore line in the Mid-Atlantic region. The Sea Scallop Committee will present proposed Atlantic Sea Scallop FMP Amendment 10 management alternatives. Alternatives selected for further development will be analyzed in terms of their scallop, habitat, bycatch, gear conflict, enforcement, and social and economic impacts in a Draft Supplemental Environmental Impact Statement (DSEIS). Under consideration are proposals for: Rotational area management (which would also require a re-estimation of the overfishing definition reference points, consistent with the expected change in size selection and other factors); a requirement for scallop nets to be modified to achieve the same selectivity and/or equivalent fishing mortality as dredges; a change in the fishing year and the annual review process and possibly adjusting the present crew size limits. Prior to addressing any other outstanding business, the Capacity Committee will update the Council on the recent activities.

Although other non-emergency issues not contained in this agenda may come before this Council for discussion, those issues may not be the subject of formal action during this meeting. Council action will be restricted to those issues specifically listed in this notice and any issues arising after publication of this announcement that require emergency action under section 305(c) of the Magnuson-Stevens Fishery Conservation and Management Act, provided the public has been notified of the Council's intent to take final action to address the emergency.

The Council will consider public comments at a minimum of two Council meetings before making recommendations to the Regional Administrator on any framework adjustment to a fishery management plan. If she concurs with the adjustment proposed by the Council, the Regional Administrator has the discretion to publish the action either as proposed or final regulations in the Federal Register. Documents pertaining to framework adjustments are available for public review 7 days prior to a final vote by the Council (see ADDRESSES).

Special Accommodations

This meeting is physically accessible to people with disabilities. Requests for sign language interpretation or other auxiliary aids should be directed to Paul J. Howard (see ADDRESSES) at least 5 days prior to the meeting date.

Dated: April 12, 2000.
Bruce C. Morehead,
Acting Director, Office of Sustainable Fisheries, National Marine Fisheries Service.

[FR Doc. 00-9698 Filed 4-18-00; 8:45 am]

BILLING CODE 3510-22-F